NATIONAL SCIENCE FOUNDATION

Advisory Committee for Geosciences; Notice of Meeting

In accordance with the Federal Advisory Committee Act (Pub. L. 92-463, as amended), the National Science Foundation (NSF) announces the following meeting:

Name and Committee Code: Advisory Committee for Geosciences (#1755) (Hybrid Meeting).

Date and Time: September 18-19, 2024; 8:30 a.m.-5:00 p.m. (Eastern).

Place: NSF, 2415 Eisenhower Avenue, Alexandria, VA 22314 (Hybrid).

This AC-GEO meeting is an in-person meeting for advisory members only. However, members of the public can view the meeting virtually. Please register using the following link to access the virtual viewing option: https://nsf.zoomgov.com/webinar/register/WN_-eTNTHpJTeW_aQ7zwNyETw.

After registering, you will receive a confirmation email with a unique link to join the meeting.

Type of Meeting: Open.

Contact Persons: Christopher Street, National Science Foundation, 2415 Eisenhower Avenue, Alexandria, VA 22314; Telephone: 703-292-8568.

Purpose of Meeting: To provide advice, recommendations and counsel on major goals and policies pertaining to geosciences programs and activities.

Agenda

Wednesday, September 18, 2024; 8:30 a.m.-5:00 p.m.

• COI Ethics Briefing

• Call to Order

• Assistant Director Updates

• Agency/Program Updates

• GEO Division/Office Highlights

• Engagement in Geosciences Discussion

• Closing Remarks

Thursday, September 19, 2024; 8:30 a.m.-5:00 p.m.

• Agency Discussion Continued

• Understanding Perceptions and Value of STEM Degrees

• NSF Chief Science Officer Briefing

• Future Meetings

• Action Item(s) Discussion

• Closing Remarks

Dated: August 16, 2024.
Crystal Robinson,
Committee Management Officer.

[FR Doc. 2024-18765 Filed 8-20-24; 8:45 am]

BILLING CODE 7555-01-P